DEPARTMENT OF TRANSPORTATION

Maritime Administration

Decommissioning and Disposition of the National Historic Landmark Nuclear Ship Savannah; Notice of Information Session

AGENCY: Maritime Administration, Department of Transportation.

ACTION: Notice.

SUMMARY: The Maritime Administration (MARAD) announces an information session for the National Historic Landmark (NHL) Nuclear Ship Savannah (NSS). MARAD is decommissioning the nuclear power plant of the NSS, which will result in the termination of the ship's Nuclear Regulatory Commission (NRC) license, making the ship available for disposition, including potential conveyance or preservation. The information session will provide interested parties an opportunity to ask questions about the NSS to assist in determining if they may wish to consider acquiring the ship for preservation purposes, as prescribed in the recently executed Programmatic Agreement (PA) covering the decommissioning and disposition of the ship.

DATES: The information session will be held on November 18, 2023, from 10 a.m. to 4 p.m. eastern standard time (EST). Requests to attend the information session must be received one (1) week in advance, by November 11, 2023, to facilitate entry or to receive instructions to participate online. Requests for accommodations for a disability must also be received one (1) week in advance.

ADDRESSES: The information session will be held onboard the NSS, online, or by phone. The NSS is located at Pier 13 Canton Marine Terminal, 4601 Newgate Avenue, Baltimore, MD 21124.

FOR FURTHER INFORMATION CONTACT: Erhard W. Koehler, (202) 680-2066 or via email at marad.history@dot.gov. You may send mail to N.S. Savannah/Savannah Technical Staff, Pier 13 Canton Marine Terminal, 4601 Newgate Avenue, Baltimore, MD 21224, ATTN: Erhard Koehler.

SUPPLEMENTARY INFORMATION:

I. Background

The decommissioning and disposition of the NSS is an Undertaking under Section 106 of the NHPA. Section 106 requires that federal agencies consider views of the public regarding their Undertakings; therefore, in 2020, MARAD established a Federal docket at https://www.regulations.gov/docket/MARAD-2020-0133 to provide public notice about the NSS Undertaking. The federal docket was also used in 2021 to solicit public comments on the future uses of the NSS. MARAD is continuing to use this same docket to take in public comment, share information, and post agency actions.

The NHPA Programmatic Agreement (PA) for the Decommissioning and Disposition of the NSS is available on the MARAD docket located at www.regulations.gov under docket id “MARAD-2020-0133.” The PA stipulates a deliberative process by which MARAD will consider the disposition of the NSS. This process requires MARAD to make an affirmative, good-faith effort to preserve the NSS. To that end, a Notice of Availability/Request for Information (NOA/RFI) was developed in accordance with Stipulation IV of the PA and was published in the Federal Register. The purpose of the NOA/RFI process is to determine preservation interest from entities that may wish to acquire the NSS.

II. Agenda

The agenda will include (1) welcome and introductions; (2) information about the ship; and (3) questions and answers. The agenda will also be posted on MARAD's website at https://www.maritime.dot.gov/outreach/history/maritime-administration-history-program and on the MARAD docket located at www.regulations.gov under docket id “MARAD-2020-0133.”

III. Public Participation

The information session will be open to the public. Members of the public who wish to attend in person or online must RSVP to the person listed in the FOR FURTHER INFORMATION CONTACT section with your name and affiliation. Members of the public may also call-in using the following number: +1-312-600-3163, Phone Conference ID: 531709929#.

Special services. The NSS is not compliant with the Americans with Disabilities Act (ADA). The ship has some capability to accommodate persons with impaired mobility. If you require accommodations to attend PRG meetings in-person, please contact the person listed in the FOR FURTHER INFORMATION CONTACT section. The U.S. Department of Transportation is committed to providing all participants equal access to this meeting. If you need alternative formats or services such as sign language, interpretation, or other ancillary aids, please contact the person listed in the FOR FURTHER INFORMATION CONTACT section.

(Authority: 49 CFR 1.81 and 1.93; 36 CFR part 800; 5 U.S.C. 552b.)

By Order of the Maritime Administrator.
T. Mitchell Hudson, Jr.,
Secretary, Maritime Administration.

[FR Doc. 2023-24203 Filed 11-1-23; 8:45 am]

BILLING CODE 4910-81-P